Title 3—

The President

Proclamation 8488 of March 31, 2010

Census Day, 2010

By the President of the United States of America

A Proclamation

Since our Nation’s earliest days, the census has played an important role in identifying where resources are most needed. This procedure, enshrined in our Constitution, informs our Government’s responses to the evolving needs of American communities. By completing this year’s survey, we can ensure they receive adequate funding for schools, hospitals, senior centers, and other public works projects. The 2010 Census will also aid employers in selecting locations for new factories and businesses as our economy recovers. On Census Day, I urge all Americans to fulfill their civic duty by participating in the 2010 Census.

While the first United States census surveyed a young country with fewer than 4 million people, this year’s census will assess a Nation of over 300 million. America’s diversity defines our national character, yet, in the past, the census has too often undercounted minorities, young people, and low-income residents. As our Nation grows, getting the count right will help ensure that our families and neighbors receive the services they need, and accurate and proportional representation in the United States House of Representatives.

The 2010 Census is safe and easy to complete, and the Census Bureau aggressively protects all census participants’ private information, which is never used against them or shared with other government or private entities. By mailing the Census form back, we help save taxpayer dollars and ensure that all Americans get the support they deserve and a voice in our democracy.

NOW, THEREFORE, I, BARACK OBAMA, President of the United States of America, by virtue of the authority vested in me by the Constitution and laws of the United States, do hereby proclaim April 1, 2010, as Census Day. I call upon all Americans to observe this day by completing their census form and mailing it back.

IN WITNESS WHEREOF, I have hereunto set my hand this thirty-first day of March, in the year of our Lord two thousand ten, and of the Independence of the United States of America the two hundred and thirty-fourth.

[FR Doc. 2010-8018

Filed 4-6-10; 8:45 am]

Billing code 3195-W0-P